DEPARTMENT OF COMMERCE

International Trade Administration

[A-533-877]

Stainless Steel Flanges From India: Final Results of Antidumping Duty Administrative Review; 2022-2023; Correction

AGENCY: Enforcement and Compliance, International Trade Administration, Department of Commerce.

ACTION: Notice; correction.

SUMMARY: The U.S. Department of Commerce (Commerce) published notice in the Federal Register of June 5, 2025, in which Commerce announced the final results of the 2022-2023 administrative review of the antidumping duty (AD) order on stainless steel flanges from India. This notice corrects the spelling of a company name that is part of the collapsed entity comprising one of the mandatory respondents, BFN/Viraj.

FOR FURTHER INFORMATION CONTACT: Benito Ballesteros, AD/CVD Operations, Office IX, Enforcement and Compliance, International Trade Administration, U.S. Department of Commerce, 1401 Constitution Avenue NW, Washington, DC 20230; telephone: (202) 482-7425.

SUPPLEMENTARY INFORMATION:

Background

On June 5, 2025, Commerce published in the Federal Register the final results of the 2022-2023 administrative review of the AD order on stainless steel flanges from India.¹ We mispelled the company name “Flanschen werk Bebitz GmbH” as “Fanschen werk Bebitz GmbH,” which is part of the collective entity comprising the mandatory respondent BFN/Viraj.²

¹ See Stainless Steel Flanges from India: Final Results of Antidumping Duty Administrative Review; 2022-2023, 90 FR 23889 (June 5, 2025).

² BFN/Viraj is a collective entity consisting of BFN Forgings Private Limited; Flanschen werk Bebitz GmbH; Viraj Alloys, Ltd.; Viraj Forgings, Ltd.; Viraj Impoexpo, Ltd.; and Viraj Profiles Limited. See, e.g., Stainless Steel Flanges from India: Final Affirmative Determination of Sales at Less Than Fair Value and Final Affirmative Critical Circumstance Determination, 83 FR 40745 (August 16, 2018), where Commerce collapsed these entities.

Correction

In the Federal Register of June 5, 2025, in FR Doc 2025-10229, on page 23889, in the second column, correct the first sentence of footnote 1 as follows: “BFN/Viraj is a collective entity consisting of BFN Forgings Private Limited; Flanschen werk Bebitz GmbH; Viraj Alloys, Ltd.; Viraj Forgings, Ltd.; Viraj Impoexpo, Ltd.; and Viraj Profiles Limited.”

Also, in FR Doc 2025-10229, on page 23890, in the first column of the dumping margin rate table, correct the company name of the BFN/Viraj collective entity as follows: BFN Forgings Private Limited; Flanschen werk Bebitz GmbH; Viraj Alloys, Ltd.; Viraj Forgings, Ltd.; Viraj Impoexpo, Ltd.; and Viraj Profiles Limited.

Notification to Interested Parties

This notice is issued and published in accordance with sections 751(a)(1) and 777(i) of the Tariff Act of 1930, as amended, and 19 CFR 351.221(b)(5).

Dated: June 10, 2025.
Steven Presing,
Acting Deputy Assistant Secretary for Policy and Negotiations.

[FR Doc. 2025-10946 Filed 6-13-25; 8:45 am]

BILLING CODE 3510-DS-P